DEPARTMENT OF JUSTICE

Office of Justice Programs

Agency Information Collection Activities: Proposed Collection; Comments Requested

ACTION: 30-Day notice of information collection under review: Claim for death benefits.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 68, Number 205, page 60713 on October 23, 2003, allowing for a 60 day comment period.

The purpose of this notice is to allow for an additional 30 days for public comment until May 10, 2004. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of information collection: Extension of a currently approved collection.

(2) The title of the form/collection: Claim for Death Benefits.

(3) The agency form number, if any, and the applicable component of the department sponsoring the collection: Form Number: None. Bureau of Justice Assistance, Office of Justice Programs, Department of Justice.

(4) Affected public who will be asked or required to respond, as well as a brief abstract: Primary: individuals or households. Other: None. The Public Safety Officers' Benefits (PSOB) Program provides a one-time benefit of $250,000 (adjusted for cost-of-living) to the eligible survivors of local, state, and federal public safety officers whose deaths result from traumatic injuries sustained in the line of duty. The agency requires the information requested on this form to identify survivors and determine their eligibility for the PSOB benefit in accordance with the statutory requirements found in 42 U.S.C. 3796. Respondents will include surviving spouses, children, and/or parents of deceased public safety officers.

(5) An estimate of the total number of respondents and the amount of time estimated for an average respondent to respond/reply: It is estimated that each of the 320 respondents will complete the application in approximately 90 minutes.

(6) An estimate of the total public burden (in hours) associated with the collection: The estimated annual total public burden associated with this application is 480 hours.

If additional information is required contact: Brenda E. Dyer, Deputy Clearance Officer, United States Department of Justice, Justice Management Division, Policy and Planning Staff, Patrick Henry Building, Suite 1600, 601 D Street NW., Washington, DC 20530.

Dated: April 2, 2004.
Brenda E. Dyer,
Department Deputy Clearance Officer, PRA, Department of Justice.

[FR Doc. 04-7946 Filed 4-7-04; 8:45 am]

BILLING CODE 4410-18-P